DEPARTMENT OF DEFENSE

GENERAL SERVICES ADMINISTRATION

NATIONAL AERONAUTICS AND SPACE ADMINISTRATION

[OMB Control No. 9000-0189; Docket No. 2021-0053; Sequence No. 13]

Information Collection; Certain Federal Acquisition Regulation Part 4 Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision concerning certain Federal Acquisition Regulation (FAR) part 4 requirements.

DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through January 31, 2022. DoD, GSA, and NASA propose that OMB extend its approval for use for three additional years beyond the current expiration date.

DATES: DoD, GSA, and NASA will consider all comments received by January 25, 2022.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0189, Certain Federal Acquisition Regulation Part 4 Requirements. Comments received generally will be posted without change to https://www.regulations.gov, including any personal and/or business confidential information provided. To confirm receipt of your comment(s), please check www.regulations.gov, approximately two-to-three days after submission to verify posting.

FOR FURTHER INFORMATION CONTACT: Zenaida Delgado, Procurement Analyst, at telephone 202-969-7207, or zenaida.delgado@gsa.gov.

SUPPLEMENTARY INFORMATION:

A. OMB Control Number, Title, and Any Associated Form(s)

9000-0189, Certain Federal Acquisition Regulation Part 4 Requirements.

B. Need and Uses

DoD, GSA, and NASA are combining OMB Control Nos. for the Federal Acquisition Regulation (FAR) by FAR part. This consolidation is expected to improve industry's ability to easily and efficiently identify burdens associated with a given FAR part. The review of the information collections by FAR part allows improved oversight to ensure there is no redundant or unaccounted for burden placed on industry. Lastly, combining information collections in a given FAR part is also expected to reduce the administrative burden associated with processing multiple information collections.

This justification supports the revision of the expiration date of OMB Control No. 9000-0189 and combines it with the previously approved information collections under OMB Control Nos. 9000-0097 and 9000-0197, with the new title “Certain Federal Acquisition Regulation Part 4 Requirements”. Upon approval of this consolidated information collection, OMB Control Nos. 9000-0097 and 9000-0197 will be discontinued. The burden requirements previously approved under the discontinued numbers will be covered under OMB Control No. 9000-0189.

This clearance covers the information that offerors and contractors must submit to comply with the following FAR requirements:

1. FAR 52.204-3, and 52.212-3(l)—Taxpayer Identification Number Information. When there is not a requirement to be registered in the System for Award Management (SAM), offerors are required to submit their Taxpayer Identification Number information by the provision at FAR 52.204-3, Taxpayer Identification, for other than commercial acquisitions, and by paragraph (l) of the provision at FAR 52.212-3, Offeror Representations and Certifications—Commercial Products and Commercial Services, for commercial acquisitions.

2. FAR 52.204-6, 52.212-1(j), and 52.204-12—Unique Entity Identifier. When there is not a requirement to be registered in SAM, offerors are required to submit their unique entity identifier by the provision at FAR 52.204-6, Unique Entity Identifier, for other than commercial acquisitions, and by paragraph (j) of the provision at FAR 52.212-1, Instructions to Offerors—Commercial Products and Commercial Services, for commercial acquisitions. The clause at FAR 52.204-12, Unique Entity Identifier Maintenance, requires contractors to maintain their unique entity identifier with the organization designated in SAM to issue such identifiers, for the life of the contract. The clause also requires contractors to notify contracting officers of any changes to the unique entity identifier.

3. FAR 52.204-7, 52.204-13, and 52.212-3(b)—SAM Registration and Maintenance. The provision at FAR 52.204-7, System for Award Management, requires offerors to be registered in SAM when submitting an offer or quotation, except in certain limited cases, and to continue to be registered through final payment of any award that results from such offer. The clause at FAR 52.204-13, System for Award Management Maintenance, requires contractors to make sure their SAM data is kept current, accurate, and complete throughout contract performance and final payment; this maintenance is, at a minimum, to be done through an annual review and update of the contractor's SAM registration. Paragraph (b) of the provision at FAR 52.212-3, Offeror Representations and Certifications—Commercial Products and Commercial Services, contains the equivalent of FAR 52.204-7 and 52.204-13, for commercial acquisitions.

4. FAR 52.204-14, and 52.204-15—Service Contract Reporting Requirements. The clauses at FAR 52.204-14, Service Contract Reporting Requirements, and FAR 52.204-15, Service Contract Reporting Requirements for Indefinite-Delivery Contracts, require contractors to report the following information in SAM annually:

(a) Contract number and, as applicable, order number.

(b) The total dollar amount invoiced for services performed during the previous Government fiscal year under each contract.

(c) The number of contractor direct labor hours expended on the services performed during the previous Government fiscal year.

(d) Data reported by each first-tier subcontractor providing services under the contract if required to do so.

5. FAR 52.204-20, Predecessor of Offeror. This provision requires offerors to identify if the offeror is, within the last three years, a successor to another entity that received a Federal Government award and, if so, to provide the Commercial and Government Entity code and legal name of the predecessor.

6. FAR 52.204-23, Prohibition on Contracting for Hardware, Software, and Services Developed or Provided by Kaspersky Lab and Other Covered Entities. This clause requires contractors to report, in writing, to the contracting officer or, in the case of DoD, to the website at https://dibnet.dod.mil, any instance when the contractor identifies a covered article provided to the Government during contract performance, or if contractors are notified of such an event by subcontractors at any tier or any other source.

C. Annual Burden

Respondents: 301,907.

Total Annual Responses: 612,575.

Total Burden Hours: 378,847.

Obtaining Copies: Requesters may obtain a copy of the information collection documents from the GSA Regulatory Secretariat Division, by calling 202-501-4755 or emailing GSARegSec@gsa.gov. Please cite OMB Control No. 9000-0189, Certain Federal Acquisition Regulation Part 4 Requirements.

Janet Fry,
Director, Federal Acquisition Policy Division, Office of Governmentwide Acquisition Policy, Office of Acquisition Policy, Office of Governmentwide Policy.

[FR Doc. 2021-25795 Filed 11-24-21; 8:45 am]

BILLING CODE 6820-EP-P